DEPARTMENT OF ENERGY

Federal Energy Regulatory Commission

[Docket Nos. RT01-88-012,ER99-3144-015, and EC99-80-015]

Alliance Companies: Ameren Services Company on behalf of: Union Electric Company, Central Illinois Public Service Company (not consolidated); American Electric Power Service Corporation on behalf of: Appalachian Power Company, Columbus Southern Power Company, Indiana Michigan Power Company, Kentucky Power Company, Kingsport Power Company, Ohio Power Company; Wheeling Power Company; Consumers Energy Company and Michigan Electric Transmission Company; Exelon Corporation on behalf of: Commonwealth Edison Company, Commonwealth Edison Company of Indiana, Inc.; FirstEnergy Corp. on behalf of: American Transmission Systems, Inc., The Cleveland Electric Illuminating Company, Ohio Edison Company, Pennsylvania Power Company, The Toledo Edison Company; Virginia Electric and Power Company, Illinois Power Company; Northern Indiana Public Service Company; The Dayton Power and Light Company; Notice of Filing

November 6, 2001.

Take notice that on November 1, 2001, Ameren Services Company (on behalf of Union Electric Company and Central Illinois Public Service Company), American Electric Power Service Corporation (on behalf of Appalachian Power Company, Columbus Southern Power Company, Indiana Michigan Power Company, Kentucky Power Company, Kingsport Power Company, Ohio Power Company, and Wheeling Power Company), Consumers Energy Company and Michigan Electric Transmission Company, The Dayton Power and Light Company, The Detroit Edison Company and International Transmission Company, Exelon Corporation (on behalf of Commonwealth Edison Company and Commonwealth Edison Company of Indiana, Inc.), FirstEnergy Corp. (on behalf of American Transmission Systems, Inc., The Cleveland Electric Illuminating Company, Ohio Edison Company, Pennsylvania Power Company, and The Toledo Edison Company), Illinois Power Company, Northern Indiana Public Service Company, and Virginia Electric and Power Company (“the Alliance Companies”), and National Grid USA, a wholly-owned subsidiary of The National Grid Group plc, (“collectively, “the parties”) tendered for filing a Participation Agreement that sets forth covenants and conditions precedent to the execution of definitive agreements necessary to form Alliance Transmission Company, LLC (“Alliance Transco LLC”) as the Alliance Regional Transmission Organization (“Alliance RTO”), and it includes the definitive agreements for the transaction. These agreements are: the Alliance Transco LLC Agreement, the Operation Agreement and the Master Agreement.

Any person desiring to be heard or to protest such filing should file a motion to intervene or protest with the Federal Energy Regulatory Commission, 888 First Street, NE., Washington, DC 20426, in accordance with rules 211 and 214 of the Commission's rules of practice and procedure (18 CFR 385.211 and 385.214). All such motions and protests should be filed on or before November 23, 2001. Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-28483 Filed 11-13-01; 8:45 am]

BILLING CODE 6717-01-P